FEDERAL COMMUNICATIONS COMMISSION

47 CFR Part 73

[MB Docket No. 23-380; RM-11968; DA 23-1053; FR ID 184411]

Television Broadcasting Services Missoula, Montana

AGENCY: Federal Communications Commission.

ACTION: Proposed rule.

SUMMARY: The Video Division, Media Bureau (Bureau), has before it a petition for rulemaking filed August 16, 2023, by Sinclair Media Licensee, LLC (Petitioner or Sinclair), the licensee of KECI-TV, channel 13, Missoula, Montana (Station or KECI-TV). As discussed below, the Station is currently operating on channel 13 and Sinclair successfully petitioned to have its channel changed from channel 13 to channel 20. The Petitioner now requests the substitution of channel 21 for channel 20 at Missoula, Montana (Missoula) in the Table of TV Allotments.

DATES: Comments must be filed on or before December 18, 2023 and reply comments on or before January 2, 2024.

ADDRESSES: Federal Communications Commission, Office of the Secretary, 45 L Street NE, Washington, DC 20554. In addition to filing comments with the FCC, interested parties should serve counsel for the Petitioner as follows: Paul A. Cicelski, Esq., Lerman Senter, PLLC, 2001 L Street NW, Washington, DC 20036.

FOR FURTHER INFORMATION CONTACT: Joyce Bernstein, Media Bureau, at (202) 418-1647; or Joyce Bernstein, Media Bureau, at Joyce.Bernstein@fcc.gov.

SUPPLEMENTARY INFORMATION: In 2021, the Bureau granted Sinclair's request to substitute UHF channel 20 for VHF channel 13 at Missoula, and Sinclair currently holds a construction permit to modify its facility to operate on channel 20. While the adopted channel 20 noise limited service contour (NLSC) did not completely encompass the relevant channel 13 NLSC, the Bureau found there would only be a loss of service to approximately 65 persons, a number the Commission considers de minimis. In addition, the adopted channel 20 facility is predicted to serve a total of 252,689 persons, a net gain of 38,879 potential viewers over the existing KECI-TV channel 13 facility. Sinclair simultaneously had requested and was granted the substitution of UHF channel 20 for VHF channel 6 for co-owned station KTVM-TV, Butte, Montana. As a result, both KTVM-TV and KECI-TV would operate on a co-channel basis. Sinclair had determined that predicted interference from both stations operating on channel 20 would affect less than 1 percent of the populations within the noise limited service contours. The Petitioner now requests that we substitute channel 21 for channel 20 for KECI-TV, stating that in preparing to construct the new facilities on channel 20, local engineering staff realized that the real-world interference consequences of both stations operating on channel 20 would result in a significant number of persons receiving interference, a greater impact than was realized when the TVStudy analyses had been done. The Petitioner went on to state that “such interference would not be localized, but rather would be spread throughout large portions of the Missoula and Butte service areas. An analysis provided by the Petitioner using the Commission's TVStudy software tool indicates that operation of KECI-TV on channel 21 instead of channel 20 would result in an estimated 40,481 additional persons within the Station's NLSC being able to receive the Station's signal. This is an increase of 1,602 person over the population that would be served if the Station were to remain on channel 20.

We believe that the Petitioner's channel substitution proposal for KECI-TV warrants consideration. Channel 21 can be substituted for channel 20 at Missoula, Montana, as proposed, in compliance with the principal community coverage requirements of section 73.625(a) of the Commission's Rules (rules) at coordinates 47-01′-04.0″ N and 114-00′-50.0″ W. In addition, we find that this channel change meets the technical requirements set forth in sections 73.616 and 73.623 of the rules. The proposed channel substitution would not cause any additional loss of service, but would increase the population served within KECI-TV's NLSC, as well as within KTVM-TV's NLSC, by resolving co-channel interference issues caused by the stations' approved co-channel operation.

This is a synopsis of the Commission's Notice of Proposed Rulemaking, MB Docket No. 23-380; RM-11968; DA 23-1053, adopted November 7, 2023, and released November 7, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in section 1.1204(a) of the Commission's rules, 47 CFR 1.1204(a).

See Sections 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this Notice of Proposed Rulemaking/Further Notice of Proposed Rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. Amend § 73.622, in the table in paragraph (j), under “Montana”, by revising the entry for “Missoula” to read as follows:

§ 73.622 Digital television table of allotments.

* * * * *

(j) * * *

Community | Channel No.
* * * * *
Montana
* * * * *
Missoula | * 11, 21, 23, 25.
* * * * *

[FR Doc. 2023-25392 Filed 11-16-23; 8:45 am]

BILLING CODE 6712-01-P